DEPARTMENT OF LABOR

Employment and Training Administration

[TA-W-91,132]

Century Aluminum of South Carolina, Inc., Including On-Site Leased Workers From MAU Workforce Solutions, Goose Creek, South Carolina, Amended Certification Regarding Eligibility To Apply for Worker Adjustment Assistance

In accordance with section 223 of the Trade Act of 1974, as amended (“Act”), 19 U.S.C. 2273, the Department of Labor issued a Certification of Eligibility to Apply for Worker Adjustment Assistance on February 12, 2016, applicable to workers and former workers of Century Aluminum of South Carolina, Inc., Goose Creek, South Carolina (subject firm). The Department's notice of determination was published in the Federal Register on January 11, 2016 (81 FR 1231). The workers were engaged in the activities related to the production of primary aluminum.

At the request of a company official, the Department reviewed the certification applicable to workers and former workers of the subject firm.

The company reports that workers leased from MAU Workforce Solutions were employed on-site at the Goose Creek, South Carolina location of Century Aluminum of South Carolina, Inc. The Department has determined that these workers were sufficiently under the control of the subject firm to be considered leased workers.

Based on these findings, the Department is amending this certification to include workers leased from MAU Workforce Solutions, working on-site at the Goose Creek, South Carolina, location of Century Aluminum of South Carolina, Inc.

The amended notice applicable to TA-W-91,132 is hereby issued as follows:

All workers of Century Aluminum of South Carolina, Inc., including on-site leased workers from MAU Workforce Solutions, Goose Creek, South Carolina, who became totally or partially separated from employment on or after November 11, 2014 through February 12, 2018, and all workers in the group threatened with total or partial separation from employment on the date of certification through two years from the date of certification, are eligible to apply for adjustment assistance under Chapter 2 of Title II of the Trade Act of 1974, as amended.

Signed in Washington, DC, this 11th day of May 2016.
Jeesica Webster,
Certifying Officer, Office of Trade Adjustment Assistance.

[FR Doc. 2016-13345 Filed 6-6-16; 8:45 am]

BILLING CODE P